DEPARTMENT OF ENERGY

Federal Energy Regulatory Commission

[Docket Nos. RP05-422-021; RP06-226-004]

El Paso Natural Gas Company; Notice of Compliance Filing

June 5, 2007.

Take notice that on June 1, 2007, El Paso Natural Gas Company (EPNG) tendered for filing as part of its FERC Gas Tariff, Second Revised Volume No. 1A, the following tariff sheets to become effective July 1, 2007:

Twelfth Revised Sheet No. 202A

First Revised Sheet No. 362A

First Revised Sheet No. 362B

First Revised Sheet No. 362C

First Revised Sheet No. 362E

First Revised Sheet No. 362F

First Revised Sheet No. 362G

First Revised Sheet No. 362H

First Revised Sheet No. 362I

First Revised Sheet No. 362J

EPNG states that the filing is being made in compliance with the Monthly Imbalance Stipulation and Agreement approved by the Commission in the above-referenced proceedings.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of § 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-11350 Filed 6-12-07; 8:45 am]

BILLING CODE 6717-01-P